DEPARTMENT OF THE INTERIOR

National Park Service

National Register of Historic Places; Notification of Pending Nominations and Related Actions

Nominations for the following properties being considered for listing or related actions in the National Register were received by the National Park Service before December 10, 2005. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by January 11, 2006.

John W. Roberts,
Acting Chief, National Register/National Historic Landmarks Program.

COLORADO

Denver County

Doyle—Benton House, 1301 Lafayette St., Denver, 05001527

MASSACHUSETTS

Middlesex County

Charles River Reservation Parkways, (Metropolitan Park System of Greater Boston MPS) Soldiers Field, Nonantum, Leo Birmingham, Arsenal, Greenough, N. Beacon, Charles River, Norumbega, Recreation, Boston, 05001530

Mystic Valley Parkway, Metropolitan Park System of Greater Boston MPS, (Metropolitan Park System of Greater Boston MPS) Mystic Valley Parkway, Arlington, 05001529

Norfolk County

West Roxbury Parkway, Metropolitan Park System of Greater Boston, (Metropolitan Park System of Greater Boston MPS) West Roxbury Parkway, Bellevue Hill, E. Border, W. Border Rds., Brookline, 05001528

NEW YORK

Allegany County

Belmont Grange #1243, 32 Willets Ave., Belmont, 05001533

Broome County

Harpursville United Methodist Church, NY 79, Harpursville, 05001532

Chenango County

West Hill Cemetery, NY 80, Sherburne, 05001534

Greene County

A. T. House, 435 Main St., Oak Hill, 05001538

Monroe County

McVean, David, House, 805 North Rd., Scottsville, 05001531

Wheatland Baptist Cemetery, McGinnis, Belcoda and Harmon Rds., Belcoda, 05001536

Niagara County

United Office Building, 220 Rainbow Blvd., Niagara Falls, 05001537

Sullivan County

Hart House, 50 Hamilton St., Burlingham, 05001535

NORTH CAROLINA

Dare County

Markham—Albertson—Stinson Cottage, 4300 W. Soundside Rd., Nags Head, 05001544

OREGON

Multnomah County

Lewthwaite, Alexander and Cornelia, House, 1715 SE Montgomery Dr., Portland, 05001539

Miller, Fred O., House, 2339 NE Thompson St., Portland, 05001540

TEXAS

Dallas County

1926 Republic National Bank, 1309 Main St., Dallas, 05001543

Purvin—Hexter Building, 2038 Commerce St., Dallas, 05001541

Franklin County

Franklin County Courthouse and Jail, 200 N Kaufman St., Mount Vernon, 05001542

VIRGINIA

Fairfax County

Manasssas Battlefield Historic District (Boundary Increase), (Civil War Properties in Prince William County MPS) Address Restricted, Manassas, 05001546

Richmond Independent City

Scott House, 909 W. Franklin St., Richmond (Independent City), 05001545

WEST VIRGINIA

Hancock County

Baker's Fort, WV 2, Newell, 05001547

[FR Doc. E5-7799 Filed 12-23-05; 8:45 am]

BILLING CODE 4310-51-P